DEPARTMENT OF THE INTERIOR

Bureau of Land Management

[18XL1109AF LLUT030000 L17110000.PN0000 241A]

Call for Nominations for the Grand Staircase-Escalante National Monument Advisory Committee, Utah

AGENCY: Bureau of Land Management, Interior.

ACTION: Notice.

SUMMARY: The purpose of this Notice is to request public nominations for 15 members to the Grand Staircase-Escalante National Monument Advisory Committee (GSENM MAC). The GSENM MAC provides information and advice regarding the development and implementation of management plans for the Grand Staircase, Kaiparowits, and Escalante Canyons Units and, as appropriate, management of the Monument. The Grand Staircase-Escalante National Monument (GSENM) will accept public nominations for 30 days from the date this Notice is posted.

DATES: A completed application and accompanying nomination/recommendation letters must be received at the address listed below no later than December 19, 2018.

ADDRESSES: Grand Staircase-Escalante National Monument Headquarters Office, 669 South Highway 89A, Kanab, Utah 84741, Attention: MAC Nominations.

FOR FURTHER INFORMATION CONTACT: Larry Crutchfield, Public Affairs Officer, GSENM Headquarters Office, 669 South Highway 89A, Kanab, Utah 84741; phone (435) 644-1209, or email: lcrutchf@blm.gov.

SUPPLEMENTARY INFORMATION: The Secretary of the Interior established the GSENM MAC pursuant to section 309 of the Federal Land Policy and Management Act (FLPMA) of 1976 (43 U.S.C. 1739) and Presidential Proclamation 9682 in conformity with the Federal Advisory Committee Act (FACA) of 1972 (5 U.S.C. Appendix 2). The 15 appointed members of the GSENM MAC perform several primary tasks: (1) Provide information and advice on the development of management plans for the Grand Staircase, Kaiparowits, and Escalante Canyons Units and, as appropriate, management of the Monument; (2) Assist BLM in developing recommendations for implementation of ecosystem approaches to management by advising BLM in establishing goals and objectives within the Monument; (3) Advise BLM regarding ongoing local efforts to develop and achieve collaborative approaches to management of the Monument; (4) Consult and make recommendations on issues such as protocols for specific projects; e.g., vegetation restoration methods and treatments, livestock grazing, standards for excavation and curation of artifacts and objects; (5) Advise BLM on opportunities to enhance and expand existing partnerships and volunteer efforts; (6) Advise BLM on opportunities to enhance and expand existing educational outreach efforts; (7) Provide recommendations for implementation of Secretary's Order 3347: Conservation Stewardship and Outdoor Recreation, and Secretary's Order 3356: Hunting, Fishing, Recreational Shooting, and Wildlife Conservation Opportunities and Coordination with States, Tribes, and Territories; (8) Provide recommendations for implementation of the regulatory reform initiatives and policies specified in section 2 of Executive Order 13777: Reducing Regulation and Controlling Regulatory Costs; Executive Order 12866: Regulatory Planning and Review, as amended; and section 6 of Executive Order 13563: Improving Regulation and Regulatory Review; and (9) Provide recommendations for collaborative and innovative solutions to aggressively address wildland fires on public lands as guided by the Secretary's memo on wildfires dated September 11, 2017.

The MAC shall include 15 members to be appointed by the Secretary as follows:

(1)An elected official from Garfield County representing the County;

(2) an elected official from Kane County representing the County;

(3) a representative of State government;

(4) a representative of Tribal government with ancestral interest in the Monument;

(5) a representative of the educational community;

(6) a representative of the conservation community;

(7) a representative of developed outdoor recreation, off-highway vehicle users, or commercial recreation activities, including, for example, commercial or recreation fishing;

(8) a representative of dispersed recreation;

(9) a livestock grazing permittee operating within the Monument to represent grazing permittees;

(10) a representative of private landowners;

(11) a representative of local business owners; and,

(12) a representative of the public-at-large, including, for example, sportsmen and sportswomen communities.

Three members will be appointed as special Government employees, one for each of the following areas of expertise:

(1) A member with expertise in systems ecology;

(2) A member with expertise in paleontology; and

(3) A member with expertise in archaeology or history.

The Secretary appoints persons to the GSENM MAC who are representatives of the various major citizen interests pertaining to land use planning and management of the lands under BLM management in GSENM.

Each GSENM MAC member will be a person who, as a result of training and experience, has knowledge or special expertise which qualifies him or her to provide advice from among the categories of interest listed above. As appropriate, certain MAC members may be appointed as Special Government Employees. Special Government Employees serve on the MAC without compensation, and are subject to financial disclosure requirements in the Ethics in Government Act and 5 CFR 2634.

This Notice, published pursuant to 43 CFR 1784.4-1 and in accordance with Presidential Proclamation 9682, requests the public to submit applications to fill 15 positions on the MAC. Any individual or organization may nominate one or more persons to serve on the GSENM MAC. Individuals may nominate themselves for GSENM MAC membership. Nomination forms may be obtained from the GSENM Headquarters Office, listed above in the ADDRESSES section or at: https://www.blm.gov/sites/blm.gov/files/GetInvolved_RACApplication.pdf. All nominations must include a completed Resource Advisory Council application (OMB Control No. 1004-0204), letters of reference from the represented interests or organizations, and any other information that speaks to the candidate's qualifications. The specific category the nominee would be representing should be identified in the letter of nomination and in the application form. The BLM Utah State Director and Monument Manager will review the applications and letters of reference. The State Director shall confer with the Governor of Utah on potential nominations. The BLM State Director will then forward recommended nominations to the Secretary of the Interior, who has responsibility for making the appointments.

Members will serve staggered terms without monetary compensation, but will be reimbursed for travel and per diem expenses at current rates for Government employees. The MAC will meet approximately two to four times annually, and at such other times as designated by the BLM Designated Federal Officer.

Authority: 43 CFR 1784.4-1.

Edwin L. Roberson,
State Director.

[FR Doc. 2018-25168 Filed 11-16-18; 8:45 am]

BILLING CODE 4310-DQ-P